DEPARTMENT OF THE INTERIOR

Fish and Wildlife Service

Notice of Intent To Prepare Comprehensive Conservation Plan and Environmental Assessment for the Lacreek National Wildlife Refuge Complex, Martin, SD

AGENCY: Fish and Wildlife Service, Department of the Interior.

ACTION: Notice of intent.

SUMMARY: The U.S. Fish and Wildlife Service intends to gather information necessary to prepare a Comprehensive Conservation Plan and associated environmental documents for the Lacreek National Wildlife Refuge Complex located in South Dakota. The Service is issuing this notice in compliance with its policy to advise other organizations and the public of its intentions and to obtain suggestions and information on the scope of issues to be considered in the planning process.

DATES: Written comments should be received by January 1, 2005.

ADDRESSES: Comments and request for more information should be sent to: Lacreek NWR Planning Project, HC5 Box 114, Martin, South Dakota 57551.

FOR FURTHER INFORMATION CONTACT: Linda Kelly, Refuge Planner, Division of Refuge Planning, P.O. Box 25486, DFC, Denver, Colorado 80225; (303) 236-8132.

SUPPLEMENTARY INFORMATION: The Service has initiated comprehensive conservation planning for the management of its natural resources. The complex consists of Bear Butte NWR, located southeast of Sturgis, South Dakota, and Lacreek NWR and Wetland Management District located near Martin, South Dakota in the southwestern part of the state.

Comprehensive planning will develop management goals, objectives, and strategies to carry out the purposes of the Complex's refuges and Wetland Management District, and comply with laws and policies governing refuge management and public use of refuges. Opportunities will be provided for public input at open houses to be held near Lacreek and Bear Butte Refuges.

All information provided voluntarily by mail, phone, or at public meetings becomes part of the official public record (i.e. names, addresses, letters of comment, input recorded during meetings). If requested under the Freedom of Information Act by a private citizen or organization, the Service may provide copies of such information. The environmental impact assessment of this project will be conducted in accordance with the requirements of the National Environmental Policy Act of 1969, as amended (42 U.S.C. 4321 et seq.), NEPA Regulations (40 CFR 1500-1508), other appropriate Federal laws and regulations, Executive Order 12996, and the National Wildlife Refuge System Improvement Act of 1997, and Service policies and procedures for compliance with those regulations.

Dated: October 15, 2004.
Sharon R. Rose,
Acting Regional Director, Region 6, Denver, Colorado.

[FR Doc. 04-26422 Filed 11-29-04; 8:45 am]

BILLING CODE 4310-55-P